DEPARTMENT OF ENERGY

Federal Energy Regulatory Commission

[Project No. 233—161]

Pacific Gas and Electric Company; Notice of Availability of Environmental Assessment

September 2, 2009.

In accordance with the National Environmental Policy Act of 1969 and the Federal Energy Regulatory Commission's (Commission or FERC) regulations, 18 CFR part 380, Commission staff has reviewed the application for amendment of license for the Pit 3, 4, and 5 Project (FERC No. 233) and has prepared an environmental assessment (EA). The project is located on the Pit River, in Shasta County, California and occupies 746 acres of lands of the United States administered by the Forest Supervisors of the Shasta-Trinity and Lassen National Forests.

The EA contains the Commission staff's analysis of the potential environmental effects of the proposed addition of new generating capacity and construction of a new powerhouse and concludes that authorizing the amendment, with appropriate environmental protective measures would not constitute a major Federal action that would significantly affect the quality of the human environment. On August 27, 2009, the Commission issued the Order Amending License which authorized the construction and operation of the Britton Powerhouse.

Copies of the EA are available for review in the Public Reference Room 2-A of the Commission's offices at 888 First Street, NE., Washington, DC 20426. The EA may also be viewed on the Commission's Internet Web site (http://www.ferc.gov) using the “eLibrary” link. Enter the docket number excluding the last three digits in the docket number field to access the document. Additional information about the project is available from the Commission's Office of External Affairs, at (202) 502-6088, or on the Commission's Web site using the eLibrary link. For assistance with eLibrary, contact FERCOnlineSupport@ferc.gov or toll-free at (866) 208-3676; for TTY contact (202) 502-8659.

Kimberly D. Bose,
Secretary.

[FR Doc. E9-21734 Filed 9-8-09; 8:45 am]

BILLING CODE 6717-01-P